DEPARTMENT OF THE TREASURY

Office of Foreign Assets Control

Designation of Twelve Individuals Pursuant to the Sergei Magnitsky Rule of Law Accountability Act of 2012

AGENCY: Office of Foreign Assets Control, Treasury.

ACTION: Notice.

SUMMARY: The Treasury Department's Office of Foreign Assets Control (“OFAC”) is publishing the names of twelve individuals whose property and interests in property are blocked pursuant to the Sergei Magnitsky Rule of Law Accountability Act of 2012 (Pub. L. 112-208, December 14, 2012) (the “Magnitsky Act”).

DATES: The designations by the Director of OFAC, pursuant to the Magnitsky Act, of the twelve individuals identified in this notice were effective on May 20, 2014.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac). Certain general information pertaining to OFAC's sanctions programs is available via facsimile through a 24-hour fax-on-demand service, tel.: 202/622-0077.

Background

On December 14, 2012, the President signed the Magnitsky Act. The Magnitsky Act requires the President to submit to certain congressional committees a list of each person the President has determined meets certain criteria set forth in the Magnitsky Act.

Pursuant to Section 406 of the Magnitsky Act, the President is required to block, with certain exceptions, all property and interests in property of a person who is on the list required by Section 404(a) of the Magnitsky Act that are in the United States, that come within the United States, or that are or come within the possession or control of any United States person. The President delegated certain functions under the Magnitsky Act to the Secretary of the Treasury, in consultation with the Secretary of State, on April 5, 2013.

On May 20, 2014, the Director of OFAC designated, pursuant to Section 406 of the Magnitsky Act, twelve individuals whose property and interests in property are blocked pursuant to the Magnitsky Act.

The listings for these individuals on OFAC's List of Specially Designated Nationals and Blocked Persons appear as follows:

Individuals

1. ALISOV, Igor Borisovich; DOB 11 Mar 1968 (individual) [MAGNIT].

2. GAUS, Alexandra Viktorovna (a.k.a. GAUSS, Alexandra); DOB 29 Mar 1975 (individual) [MAGNIT].

3. KHLEBNIKOV, Vyacheslav Georgievich (a.k.a. KHLEBNIKOV, Viacheslav); DOB 09 Jul 1967 (individual) [MAGNIT].

4. KLYUEV, Dmitry Vladislavovich (a.k.a. KLYUYEV, Dmitriy); DOB 10 Aug 1967 (individual) [MAGNIT].

5. KRATOV, Dmitry Borisovich; DOB 16 Jul 1964 (individual) [MAGNIT].

6. KRECHETOV, Andrei Alexandrovich; DOB 22 Sep 1981 (individual) [MAGNIT].

7. LITVINOVA, Larisa Anatolievna; DOB 18 Nov 1963 (individual) [MAGNIT].

8. MARKELOV, Viktor Aleksandrovich; DOB 15 Dec 1967; POB Leninskoye village, Uzgenskiy District, Oshkaya region of the Kirghiz SSR (individual) [MAGNIT].

9. STEPANOV, Vladlen Yurievich; DOB 17 Jul 1962 (individual) [MAGNIT].

10. TAGIYEV, Fikret (a.k.a. TAGIEV, Fikhret Gabdulla Ogly; a.k.a. TAGIYEV, Fikhret); DOB 03 Apr 1962 (individual) [MAGNIT].

11. SUGAIPOV, Umar; DOB 17 Apr 1966; POB Chechen Republic, Russia (individual) [MAGNIT].

12. VAKHAYEV, Musa; DOB 1964; POB Urus-Martan, Chechen Republic, Russia (individual) [MAGNIT].

Dated: May 20, 2014.
Adam J. Szubin,
Director, Office of Foreign Assets Control.

Editorial Note: This document was received for publication by the Office of the Federal Register on September 4, 2014.

[FR Doc. 2014-21388 Filed 9-8-14; 8:45 am]

BILLING CODE 4810-AL-P